DEPARTMENT OF TRANSPORTATION

Federal Aviation Administration

14 CFR Part 71

[Docket No. 2014-0540; Amendment No. 71-46]

RIN 2120-AA66

Airspace Designations; Incorporation by Reference Amendments

AGENCY: Federal Aviation Administration (FAA), DOT.

ACTION: Final rule, technical amendment.

SUMMARY: This action incorporates certain amendments into FAA Order 7400.9Y, dated August 6, 2014, and effective September 15, 2014, for incorporation by reference in 14 CFR § 71.1.

DATES: Effective date 0901 UTC November 14, 2014. The Director of the Federal Register approves this incorporation by reference action under 1 CFR part 51, subject to the annual revision of FAA Order 7400.9 and publication of conforming amendments.

FOR FURTHER INFORMATION CONTACT: Sarah A. Combs, Airspace Policy and Regulations Group, Office of Airspace Services, Federal Aviation Administration, 800 Independence Avenue SW., Washington, DC 20591; telephone: (202) 267-8783.

SUPPLEMENTARY INFORMATION:

History

Federal Aviation Administration Airspace Order 7400.9, Airspace Designations and Reporting Points, incorporated by reference in 14 CFR 71.1, is published yearly. Amendments referred to as “effective date straddling amendments” were published under Order 7400.9X (dated August 7, 2013, and effective September 15, 2013), but became effective under Order 7400.9Y (dated August 6, 2014, and effective September 15, 2014). This action incorporates these rules into the current FAA Order 7400.9Y.

Accordingly, as this is an administrative correction to update final rule amendments into FAA Order 7400.9Y, notice and public procedure under 5 U.S.C. 553(b) are unnecessary. Also, to bring these rules and legal descriptions current, I find that good cause exists, under 5 U.S.C. 553(d), for making this amendment effective in less than 30 days.

The Rule

This action amends title 14 Code of Federal Regulations (14 CFR) Part 71 to incorporate certain final rules into the current FAA Order 7400.9Y, Airspace Designations and Reporting Points, dated August 6, 2014, and effective September 15, 2014, which are depicted on aeronautical charts.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes the necessary updates for airspace areas within the National Airspace System.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

2. Section 71.1 is revised to read as follows:

§ 71.1 [Amended]

For Docket No. FAA-2013-0171; Airspace Docket No. 13-ANM-6 (79 FR 35279, June 20, 2014). On page 35279, column 3, line 6, under History; and on page 35280, column 1, line 63, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

For Docket No. FAA-2014-0013; Airspace Docket No. 13-ASW-33 (79 FR 36199, June 26, 2014). On page 36199, column 1, line 48, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 36199 column 3, line 16, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2014-0154; Airspace Docket No. 14-ACE-1 (79 FR 37173, July 1, 2014). On page 37174, column 1, line 4, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 37174 column 2, line 27, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2014-0224; Airspace Docket No. 13-ACE-15 (79 FR 37174, July 1, 2014). On page 37174, column 3, line 40, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 37175 column 2, line 3, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0859; Airspace Docket No. 13-AWA-4 (79 FR 38772, July 9, 2014). On page 38773, column 1, line 67, under the Rule remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 38774 column 2, line 24, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0956; Airspace Docket No. 13-AWP-17 (79 FR 41877, July 18, 2014). On page 41877, column 3, line 50, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 41878 column 2, line 19, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0995; Airspace Docket No. 13-ASW-30 (79 FR 41878, July 18, 2014). On page 41878, column 3, line 51, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 41879 column 2, line 16, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0987; Airspace Docket No. 13-AWP-19 (79 FR 44270, July 31, 2014). On page 44270, column 3, line 36, under Addresses remove “FAA Order 7400.9X, . . .” and add in its place “FAA Order 7400.9Y, . . .”; on page 44271, column 1, line 17 under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 44271 column 2, line 44, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2014-0384; Airspace Docket No. 14-ANE-6 (79 FR 44679, August 1, 2014). On page 44679, column 3, line 51, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2014-0082; Airspace Docket No. 14-ASO-3 (79 FR 46180, August 7, 2014). On page 46180 column 1, line 43, under Addresses remove “FAA Order 7400.9X, . . .” and add in its place “FAA Order 7400.9Y, . . .”; on page 46180, column 2, line 26, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 46180 column 3, line 43, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2014-0104; Airspace Docket No. 13-AEA-4 (79 FR 47556, August 14, 2014). On page 47556, column 3, line 1, under Addresses remove “FAA Order 7400.9X, . . .” and add in its place “FAA Order 7400.9Y, . . .”; on page 47557, column 1, line 9, under the Rule; and on page 47557, column 2, line 22, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

For Docket No. FAA-2014-0501; Airspace Docket No. 14-AGL-11 (79 FR 47557, August 14, 2014). On page 47557 column 3, line 32, under Addresses remove “FAA Order 7400.9X, . . .” and add in its place “FAA Order 7400.9Y, . . .”; on page 47558, column 2, line 27, under the Rule remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 47558 column 3, line 6, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0990; Airspace Docket No. 13-AGL-8 (79 FR 47559, August 14, 2014). On page 47559, column 1, line 31, under Addresses remove “FAA Order 7400.9X, . . .” and add in its place “FAA Order 7400.9Y, . . .”; on page 47559, column 3, line 42, under the Rule; and on page 47560, column 3, line 6, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

For Docket No. FAA-2014-0368; Airspace Docket No. 13-AGL-26 (79 FR 48032, August 15, 2014). On page 48033, column 1, line 6, under Addresses remove “FAA Order 7400.9X, . . .” and add in its place “FAA Order 7400.9Y, . . .”; on page 48033, column 2, line 53, under the Rule; and on page 48034, column 1, line 3, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

For Docket No. FAA-2013-0994; Airspace Docket No. 13-ASW-29 (79 FR 52192, September 3, 2014). On page 52193 column 1, line 4, under Addresses remove “FAA Order 7400.9X, . . .” and add in its place “FAA Order 7400.9Y, . . .”; on page 52193, column 1, line 47, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 52193 column 3, line 12, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-1016; Airspace Docket No. 13-ANM-25 (79 FR 52194, September 3, 2014). On page 52194 column 1, line 27, under Addresses remove “FAA Order 7400.9X, . . .” and add in its place “FAA Order 7400.9Y, . . .”; on page 52194, column 2, line 6, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 52194 column 3, line 29, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0957; Airspace Docket No. 13-AWP-18 (79 FR 52957, September 5, 2014). On page 52957 column 2, line 4, under Addresses remove “FAA Order 7400.9X, . . .” and add in its place “FAA Order 7400.9Y, . . .”; on page 52957, column 2, line 47, under History remove “. . . FAA Order 7400.9X, Airspace Designations and Reporting Points, dated August 7, 2013, and effective September 15, 2013, . . .” and add in its place “FAA Order 7400.9Y, Airspace Designations and Reporting Points, dated August 6, 2014, and effective September 15, 2014, . . .”; and on page 52958 column 1, line 12, under Amendatory Instruction 2 remove “. . . Federal Aviation Administration Order 7400.9X, Airspace Designations and Reporting Points, dated August 7, 2013, and effective September 15, 2013, . . .” and add in its place “Federal Aviation Administration Order 7400.9Y, Airspace Designations and Reporting Points, dated August 6, 2014, and effective September 15, 2014, . . .”.

For Docket No. FAA-2013-0960; Airspace Docket No. 13-AGL-17 (79 FR 54185, September 11, 2014). On page 54185, column 1, line 50, under Addresses remove “FAA Order 7400.9X, . . .” and add in its place “FAA Order 7400.9Y, . . .”; on page 54186 column 1, line 37, under the Rule; and on page 54186, column 2, line 49, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

For Docket No. FAA-2014-0273; Airspace Docket No. 14-ANE-2 (79 FR 57901, September 15, 2014). On page 54901, column 1, line 43, under Addresses remove “FAA Order 7400.9X, . . .” and add in its place “FAA Order 7400.9Y, . . .”; on page 54901, column 3, line 7, under the Rule; and on page 54902 column 2, line 6, under Amendatory Instruction 2 remove “. . . FAA Order 7400.9X, Airspace Designations and Reporting Points, dated August 7, 2013, and effective September 15, 2013, . . .” and add in its place “FAA Order 7400.9Y, Airspace Designations and Reporting Points, dated August 6, 2014, and effective September 15, 2014, . . .”.

Issued in Washington, DC, on November 6, 2014.
Gary A. Norek,
Manager, Airspace Policy and Regulations Group.

[FR Doc. 2014-26861 Filed 11-13-14; 8:45 am]

BILLING CODE 4910-14-P